DEPARTMENT OF AGRICULTURE

Agricultural Marketing Service

[Doc. No. AMS-FV-13-0013]

Request for Extension and Revision of a Currently Approved Information Collection With Additional Merge of Additional Collection: Regulations Governing Inspection and Certification of Fresh and Processed Fruits, Vegetables and Other Products

AGENCY: Agricultural Marketing Service, USDA.

ACTION: Notice and request for comments.

SUMMARY: In accordance with the Paperwork Reduction Act of 1995 (44 U.S.C. Chapter 35), this notice announces the merger of Agricultural Marketing Service's (AMS) Fresh Products Division with the Processed Products Division: The newly combined program is named Specialty Crops Inspection Division. The purpose of this notice is to revise and rename two information collections, 0581-0125 Regulation Governing Inspection, Certification, Standards, and Audit Services for Fresh Fruits, Vegetables, and Other Products—7 CFR part 51 and 0581-0234 Reporting Requirements under the Regulations Governing Inspections and Certification of Processed Fruits and Vegetables and Related Products—7 CFR part 52. This notice also combines, 0581-0125 Regulation Governing Inspection, Certification, Standards, and Audit Services for Fresh Fruits, Vegetables, and Other Products—7 CFR part 51 and 0581-0234 Reporting Requirements under the Regulations Governing Inspections and Certification of Processed Fruits and Vegetables and Related Products—7 CFR part 52 providing approved information collections into one and request extension approval of the information collection retitled Regulations Governing Inspection and Certification of Fresh and Processed Fruits, Vegetables and Other Products 7 CFR part 51 and part 52 from the Office of Management and Budget. Specialty Crops Inspection Division provides nationwide inspection, certification and auditing services for fresh and processed fruits, vegetables, and other products on a “user fee” basis to facilitate trading of agricultural products on international, interstate and intrastate levels.

DATES: Comments on this notice must be received by May 31, 2013, to be assured consideration.

Additional Information: Interested persons are invited to submit comments on the Web at http://www.regulations.gov or contact Nathaniel W. Taylor, Inspection Branch Chief, Specialty Crops Inspection Division, Fruit and Vegetable Program, Agricultural Marketing Service, U.S. Department of Agriculture, 1400 Independence Avenue SW., Washington, DC, and 20250; email: Nathaniel.Taylor@ams.usda.gov; Ph.: 800-811-2373; or fax: 202-720-0393. Comments should make reference to the date and page number of this issue of the Federal Register. All comments received will be posted without change, including the identity of the individuals or entities and their personal information, and will be available for public inspection via the Internet at http://www.regulations.gov or at the address cited above during regular business hours.

SUPPLEMENTARY INFORMATION:

Title: Regulations Governing Inspection Certification and Audit Services for Fresh and Processed Fruits, Vegetables, and Other Products—7 CFR part 51 and part 52.

OMB Number: 0581-0125.

Expiration Date of Approval: October 31, 2013.

Type of Request: Revision and Extension of approval of an information collection.

Abstract: The Agricultural Marketing Act of 1946, (7 U.S.C., 1621-1627) as amended authorizes the Agricultural Marketing Service, Specialty Crops Inspection Division to provide inspection and certification of the quality and condition of agricultural products. Specialty Crops Inspection Division provides a nationwide inspection, grading, and auditing service for fresh and processed fruits, vegetables and other products to shippers, importers, processors, sellers, buyers, and other financially interested parties on a “user fee” basis. The use of services is voluntary and is made available only upon request or when specified by some special program or contract. Information is needed to carry out the inspection, grading, or auditing services. Such information includes; the name and location of the person or company requesting services, the type and location of the product to be inspected, the type of inspection being requested, information that will identify the product or type and scope of audit requested. With this revision, Specialty Crops Inspection Division is including information collection requirements currently approved by OMB control number 0581-0125 Regulations Governing Inspection, Certification, Standards and Audit Services for Fresh Fruits, Vegetables, and Other Products—CFR part 51 (Expires 10/31/13) and 0581-0234 Reporting Requirement under the Regulations Governing Instruction and Certification of Processed Fruits and Vegetables and Related Products 7 CFR part 52 (Expires 1/31/14). Upon approval AMS will request a discontinuation for 0581-0234 from OMB. Merging the Collections will enable the Division to more efficiently manage the collection and prevent duplication of burden.

Regulations Governing Inspection, Certification, Standards and Audit Services for Fresh Fruits, Vegetables and Other Products—7 CFR Part 51 (0581-0125)

Estimate of Burden: Public reporting burden for this collection is estimated to average 0.03 hours per response.

Respondents: Business or other for profit, nonprofit institutions, farms or federal, state, local or Tribal Government.

Estimated Number of Respondents: 8,657.

Estimated Total Annual Responses: 129,769.

Estimated Number of Responses per Respondent: 15.

Estimated Total Annual Burden on Respondents: 4,127.

Reporting Requirements under the Regulations Governing Inspection and Certification of Processed Fruits and Vegetables and Related Products 7 CFR part 52 (0581-0234).

Estimate of Burden: Public reporting burden for this collection is estimated to average 0.33 hours per response.

Respondents: Business or other for profit, nonprofit institutions, farms or federal, state, local or Tribal Government.

Estimated Number of Respondents: 1,446.

Estimated Total Annual Responses: 15,218.

Estimated Number of Responses per Respondent: 11.

Estimated Total Annual Burden on Respondents: 4,990.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval. All comments will become a matter of public record.

Dated: May 7, 2013.
David R. Shipman,
Administrator, Agricultural Marketing Service.

[FR Doc. 2013-11211 Filed 5-10-13; 8:45 am]

BILLING CODE 3410-02-P